NUCLEAR REGULATORY COMMISSION

[Docket No. 72-39]

Connecticut Yankee Atomic Power Company Haddam Neck Plant Independent Spent Fuel Storage Installation Environmental Assessment and Finding of No Significant Impact

The U.S. Nuclear Regulatory Commission (NRC or Commission) is considering issuance of an exemption to Connecticut Yankee Atomic Power Company (CYAPCO or licensee), pursuant to 10 CFR 72.7, from the specific provisions of 10 CFR 72.212(a)(2), 72.212(b)(2)(I), 72.212(b)(7), and 72.214. The licensee is using the NAC Multi-Purpose Canister System (NAC-MPC), Certificate of Compliance (CoC) No. 1025, to store spent fuel under a general license in an independent spent fuel storage installation (ISFSI) associated with the operation of the Haddam Neck Plant, located in Middlesex County, Connecticut. The requested exemption would allow CYAPCO to deviate from requirements of the NAC-MPC CoC No. 1025, Amendment No. 4, Appendix A, Technical Specifications for the NAC-MPC System, Section A 5.1, Training Program. Specifically, the exemption would relieve the licensee from the requirement to develop training modules under its Systems Approach to Training (SAT) that includes comprehensive instructions for the operation and maintenance of the ISFSI, except for the NAC-MPC System.

Environmental Assessment

Identification of the Proposed Action

The proposed action would exempt CYAPCO from regulatory requirements to develop certain training. By letter dated June 1, 2005, the licensee requested exemptions from certain regulatory requirements of 10 CFR 72.212(a)(2), 72.212(b)(2)(I), 72.212(b)(7), and 72.214 which require a general license to store spent fuel in a NRC-certified spent fuel storage cask under the terms and conditions set forth in the CoC. The proposed exemption would allow the licensee to deviate from the requirements in CoC No. 1025, Amendment No. 4, Appendix A, Technical Specifications for the NAC-MPC System, Section A 5.1, Training Program.

CoC No. 1025, Amendment 4, Appendix A, Technical Specifications for the NAC-MPC System, Section A 5.1, Training Program, requires that a training program for the NAC-MPC System be developed under the general licensee's SAT Program. Further, the training modules must include comprehensive instructions for the operation and maintenance of both the NAC-MPC System and the ISFSI. By exempting the licensee from the requirements of 10 CFR 72.212(a)(2), 72.212(b)(2)(I), 72.212(b)(7), and 72.214 for this request, the licensee will not be required to develop training modules that include comprehensive instructions for the operation and maintenance of the ISFSI.

The Need for the Proposed Action

Granting the requested exemptions will relieve the licensee of the requirement to develop training modules under the SAT that include comprehensive instructions for the operation and maintenance of the ISFSI, except for the NAC-MPC System. Thus, the licensee will not incur the costs associated with this activity.

Environmental Impacts of the Proposed Action

The NRC has reviewed the exemption requests submitted by the licensee. The staff determined that not requiring the licensee to develop training modules including comprehensive instructions for the operation and maintenance of the ISFSI, except for the NAC-MPC System, is an administrative change, and would have no significant impacts to the environment.

Further, NRC has evaluated the impact to public safety that would result from granting the requested exemptions. CYAPCO has stated that for activities associated with operation and maintenance of ISFSI structures, systems, and components (SSCs) that are not important to safety, CYAPCO will provide training/instructions in accordance with manufacturer's instructions and CYAPCO approved procedures. NRC determined that requiring the licensee to develop training modules under its SAT for the operation and maintenance of ISFSI SSCs considered not-important-to-safety would not provide a commensurate increase in public safety associated with the costs. Therefore, allowing the licensee to develop these modules separately from its SAT does not impact public safety.

The proposed action would not increase the probability or consequences of accidents, no changes would be made to the types of effluents released offsite, and there would be no increase in occupational or public radiation exposure. Therefore, there are no significant radiological environmental impacts associated with the proposed action.

The potential environmental impact of using the NAC-MPC System was initially presented in the Environmental Assessment for the Final Rule to add the NAC-MPC System to the list of approved spent fuel storage casks in 10 CFR 72.214 (65 FR 12444, dated March 9, 2000), as revised in Amendment No. 1 (66 FR 45749, dated August 30, 2001), in Amendment No. 2 (67 FR 11566, dated March 15, 2002), in Amendment No. 3 (68 FR 42570, dated July 18, 2003), and in Amendment No. 4 (69 FR 50053, dated August 13, 2004).

With regard to potential non-radiological impacts, the proposed action does not have a potential to affect any historic sites. It does not affect non-radiological plant effluents and has no other environmental impact. Therefore, there are no significant non-radiological environmental impacts associated with the proposed action.

Accordingly, the NRC concludes that there are no significant environmental impacts associated with the proposed action.

Alternatives to the Proposed Action

Since there is no significant environmental impact associated with the proposed action, alternatives with equal or greater environmental impacts were not evaluated. As an alternative to the proposed action, the staff considered denial of the proposed action. Denial of the exemption request would have the same environmental impact as the proposed action.

Agencies and Persons Consulted

On July 6, 2005, the staff consulted with Mr. Michael Firsick of the Connecticut Department of Environmental Protection, Division of Radiation, regarding the environmental impact of the proposed action. He had no comments. The NRC staff has determined that a consultation under Section 7 of the Endangered Species Act is not required because the proposed action will not affect listed species or critical habitat. The NRC staff has also determined that the proposed action is not a type of activity having the potential to cause effects on historic properties. Therefore, no further consultation is required under Section 106 of the National Historic Preservation Act.

Finding of No Significant Impact

The environmental impacts of the proposed action have been reviewed in accordance with the requirements set forth in 10 CFR part 51. Based upon the foregoing Environmental Assessment, the NRC finds that the proposed action of granting an exemption from 10 CFR 72.212(a)(2), 72.212(b)(2)(I), 72.212(b)(7), and 72.214 and not requiring the licensee to develop training modules under its SAT that includes comprehensive instructions for the operation and maintenance of the ISFSI, except for the NAC-MPC will not significantly impact the quality of the human environment. Accordingly, the NRC has determined not to prepare an environmental impact statement for the proposed action.

For further details with respect to this exemption request, see CYAPCO's letter dated June 1, 2005. The exemption request was docketed under 10 CFR 72, Docket No. 72-39. The NRC maintains an Agencywide Documents Access and Management System (ADAMS), which provides text and image files of NRC's public documents. These documents may be accessed through the NRC's Public Electronic Reading Room on the Internet at http://www.nrc.gov/reading-rm/adams/web-based.html. If you do not have access to ADAMS or if there are problems in accessing the documents located in ADAMS, contact the NRC Public Document Room (PDR) Reference staff at 1-800-397-4209, or 301-415-4737, or by e-mail at pdr@nrc.gov.

Dated at Rockville, Maryland, this 31st day of August, 2005.
For the Nuclear Regulatory Commission.
L. Raynard Wharton,
Project Manager, Spent Fuel Project Office, Office of Nuclear Material Safety and Safeguards.

[FR Doc. 05-17970 Filed 9-9-05; 8:45 am]

BILLING CODE 7590-01-P